DEPARTMENT OF THE TREASURY

Office of Thrift Supervision

[AC-29: OTS No. 06571]

Canisteo Savings and Loan Association, Canisteo, NY; Approval of Conversion Application

Notice is hereby given that on January 29, 2009, the Office of Thrift Supervision approved the application of Canisteo Savings and Loan Association, Canisteo, New York, to convert to the stock form of organization. Copies of the application are available for inspection by appointment (phone number: (202) 906-5922 or e-mail: Public.Info@OTS.Treas.gov) at the Public Reading Room, 1700 U Street, NW., Washington, DC 20552, and the OTS Northeast Regional Office, Harborside Financial Center Plaza Five, Suite 1600, Jersey City, New Jersey 07311.

Dated: March 4, 2009.
By the Office of Thrift Supervision.
Sandra E. Evans,
Federal Register Liaison.

[FR Doc. E9-5106 Filed 3-10-09; 8:45 am]

BILLING CODE 6720-01-M